DEPARTMENT OF DEFENSE

GENERAL SERVICES ADMINISTRATION

NATIONAL AERONAUTICS AND SPACE ADMINISTRATION

48 CFR Parts 22, 25 and 52

[FAC 2005-24; FAR Case 2006-028; Item IV; Docket 2008-0001; Sequence 4]

RIN 9000-AK77

Federal Acquisition Regulation; FAR Case 2006-028, New Designated Countries—Dominican Republic, Bulgaria, and Romania

AGENCIES: Department of Defense (DoD), General Services Administration (GSA), and National Aeronautics and Space Administration (NASA).

ACTION: Final rule.

SUMMARY: The Civilian Agency Acquisition Council and the Defense Acquisition Regulations Council (Councils) have agreed to adopt the interim rule published in the Federal Register at 72 FR 46357, August 17, 2007, as a final rule without change. This final rule amends the Federal Acquisition Regulation (FAR) to implement the Dominican Republic-Central America-United States Free Trade Agreement with respect to the Dominican Republic.

DATES: Effective Date: February 28, 2008.

FOR FURTHER INFORMATION CONTACT: Ms. Meredith Murphy, Procurement Analyst, at (202) 208-6925 for clarification of content. For information pertaining to status or publication schedules, contact the FAR Secretariat at (202) 501-4755. Please cite FAC 2005-24, FAR case 2006-028.

SUPPLEMENTARY INFORMATION:

A. Background

DoD, GSA, and NASA published an interim rule with request for comments in the Federal Register at 72 FR 46357, August 17, 2007. The comment period closed October 16, 2007. No public comments were received in response to the interim rule.

The interim rule amended FAR part 25 and the corresponding clauses in FAR part 52 to implement the Dominican Republic-Central America-United States Free Trade Agreement (CAFTA-DR) with respect to the Dominican Republic. Congress approved this trade agreement in the Dominican Republic-Central America-United States Free Trade Agreement Implementation Act (Pub. L. 109-53). This trade agreement waives the applicability of the Buy American Act for some foreign supplies and construction materials from the Dominican Republic and specifies procurement procedures designed to ensure fairness in the acquisition of supplies and services.

The Dominican Republic has the same thresholds as the other CAFTA-DR countries ($67,826 for supply and service contracts, $7,443,000 for construction contracts).

The interim rule also added Bulgaria and Romania to the list of World Trade Organization Government Procurement Agreement countries wherever it appears, whether as a separate definition, part of the definition of designated countries, or as part of the list of countries exempt from the prohibition of acquisition of products produced by forced or indentured child labor (FAR parts 22.1503, 25.003, 52.222-19, 52.225-5, and 52.225-11).

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq. Although the rule opens up Government procurement to the goods and services of Bulgaria, the Dominican Republic, and Romania, the Councils do not anticipate any significant economic impact on U.S. small businesses. No comments were received from small business concerns. Therefore, a Final Regulatory Flexibility Analysis was not performed.

C. Paperwork Reduction Act

The Paperwork Reduction Act does apply; however, these changes to the FAR do not impose additional information collection requirements to the paperwork burden previously approved under OMB Control Numbers 9000-0025, 9000-0130, 9000-0136, and 9000-0141 respectively. The final rule affects the certification and information collection requirements in the provisions at FAR 52.212-3, 52.225-4, 52.225-6, and 52.225-11.

List of Subjects in 48 CFR Parts 22, 25, and 52

Government procurement.

Dated: February 19, 2008.
Al Matera,
Director, Office of Acquisition Policy.

Interim Rule Adopted as Final Without Change

Accordingly, the interim rule amending 48 CFR parts 22, 25, and 52 which was published at 72 FR 46357, August 17, 2007, is adopted as a final rule without change.

[FR Doc. E8-3386 Filed 2-27-08; 8:45 am]

BILLING CODE 6820-EP-P